DEPARTMENT OF COMMERCE

National Oceanic and Atmospheric Administration

RIN 0648-XG495

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Snapper Grouper Advisory Panel (AP) in October 2018.

DATES: The Snapper Grouper AP meeting will take place October 17, 2018, from 1:30 p.m. to 5 p.m.; October 18, from 8:30 a.m. until 5 p.m.; and October 19, from 8:30 a.m. until 12 p.m. ADDRESSES:

Meeting address: The meetings will be held at the Town & Country Inn, 2008 Savannah Highway, Charleston, SC 29407.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Snapper Grouper AP meeting is open to the public and will be available via webinar as it occurs. Registration is required. Webinar registration information and other meeting materials will be posted to the Council's website at: http://safmc.net/safmc-meetings/current-advisory-panel-meetings/ as it becomes available.

Agenda items for the Snapper Grouper AP meeting include the following: Input on the 2016-20 Vision Blueprint for the Snapper Grouper Fishery, input on Citizen Science projects, fishery performance reports for Yellowtail Snapper and Golden Tilefish, recommendations on developing amendments to the Snapper Grouper Fishery Management Plan, and other issues as appropriate. The AP will develop recommendations as necessary for consideration by the Council's Snapper Grouper Committee.

Special Accommodations

These meetings are physically accessible to people with disabilities. Requests for auxiliary aids should be directed to the Council office (see ADDRESSES) 3 days prior to the public hearings.

Note: The times and sequence specified in this agenda are subject to change.

Authority: 16 U.S.C. 1801 et seq.

Dated: September 25, 2018.
Tracey L. Thompson,
Acting Deputy Director, Office of Sustainable Fisheries, National Marine Fisheries Service.

[FR Doc. 2018-21172 Filed 9-27-18; 8:45 am]

BILLING CODE 3510-22-P